DEPARTMENT OF TRANSPORTATION

National Highway Traffic Safety Administration

[Docket No. NHTSA 2001-10944; Notice 2]

Advanced Bus Industries, Grant of Application for Decision That Noncompliance Is Inconsequential to Motor Vehicle Safety

Advanced Bus Industries, LLC, (ABI) of Marysville, Ohio, has determined that approximately 68 Mauck Special Vehicles (MSV) with tag axles, manufactured between May 31, 1995 and February 2, 2000, do not meet the requirements of paragraph S5.1 of Federal Motor Vehicle Safety Standard (FMVSS) No. 105, “Hydraulic and Electric Brake Systems.” Pursuant to 49 U.S.C. 30118(d) and 30120(h), ABI petitioned for a determination that this noncompliance is inconsequential to motor vehicle safety and filed an appropriate report pursuant to 49 CFR Section 573, “Defect and Noncompliance Reports.”

Notice of receipt of the application was published on November 14, 2001, with a 30-day comment period (66 FR 57151). NHTSA received no comments on this application.

ABI is the original equipment manufacturer of the MSV. ABI manufactures the MSV as a complete bus, which is then purchased by city transit organizations, or as a shell, which is purchased by up-fitters that customize and sell it to a first purchaser.

The four-wheel independent suspension of the MSV is augmented by a tag axle with small wheels. The tag axle is manufactured by Dexter, has a maximum support capacity of 3,500 pounds, and is installed behind the MSV's two rear wheels. A supporting force of 1,500 pounds is provided by the tag axle via the air pressure inside the two air-filled rubber springs mounted between the tag axle and the MSV chassis.

Vehicle braking is provided by the hydraulic, caliper-disc service brakes on the four main wheels. The two small wheels of the tag axle are not fitted with brakes. The lack of brakes on the two small wheels of the tag axle does not satisfy paragraph S5.1 of FMVSS 105, which states that a vehicle must have service brakes at all wheels.

ABI argued that the noncompliance is inconsequential to motor vehicle safety because these vehicles exceed the current FMVSS No.105 braking performance requirements. To support this claim ABI submitted, along with its petition for inconsequential non-compliance, a test report compiled in August 1999. The test facility that produced the report, Radlinski & Associates, tested a MSV to the procedures specified in FMVSS No. 105 and a complete Certification Test Report was generated. The FMVSS No. 105 Certification Test Report indicates that the MSV exceeded all FMVSS No.105 performance requirements.

The agency believes that the true measure of inconsequentiality in this case is the effect of the noncompliance on the vehicle's ability to meet the stopping distance and vehicle stability performance requirements of FMVSS No. 105. The report of the testing conducted by Radlinski & Associates in August 1999 indicates that the brake system of the MSV complies with the fully functional and partially failed brake system requirements of FMVSS No. 105.

On February 8, 2000, the National Highway Traffic Safety Administration (NHTSA) granted ABI a temporary exemption from the requirement in FMVSS No. 105, paragraph S5.1, for service brakes at all wheels. The temporary exemption expired on January 1, 2002. Based on information supplied to the agency by ABI, including the report of brake testing according to FMVSS No. 105 procedures by Radlinski & Associates, NHTSA Temporary Exemption No. 2000-1 was granted in order to allow the sale of mass transit vehicles that serve the public interest. It is our understanding that ABI no longer produces the MSV with the tag axles.

In consideration of the foregoing, NHTSA has decided that the burden of persuasion has been met and that the noncompliance is inconsequential to motor vehicle safety. Accordingly, the application from ABI is granted and the applicant is exempted from providing the notification of the noncompliance that would be required by 49 U.S.C. 30118, and from remedying the noncompliance, as would be required by 49 U.S.C. 30120.

(Authority: 49 U.S.C. 301118, 301120; delegations of authority at 49 CFR 1.50 and 501.8)

Issued on: March 5, 2002.
Stephen R. Kratzke,
Associate Administrator for Safety Performance Standards.

[FR Doc. 02-5799 Filed 3-11-02; 8:45 am]

BILLING CODE 4910-59-P